DEPARTMENT OF DEFENSE

Office of the Secretary

[Transmittal No. 00-54]

36(b)(1) Arms Sales Notification

AGENCY: Department of Defense, Defense Security Cooperation Agency.

ACTION: Notice.

SUMMARY: The Department of Defense is publishing the unclassified text of a section 36(b)(1) arms sales notification. This is published to fulfill the requirements of section 155 of P.L. 104-164 dated 21 July 1996.

FOR FURTHER INFORMATION CONTACT: Ms. J. Hurd, DSCA/COMPT/RM, (703) 604-6575.

The following is a copy of a letter to the Speaker of the House of Representatives, Transmittal 00-54 with attached transmittal, policy justification, Sensitivity of Technology, and Section 620C(d) of the Foreign Assistance Act of 1961.

Dated: July 26, 2000.
C.M. Robinson,
Alternate OSD Federal Register Liaison Officer, Department of Defense.

BILLING CODE 5001-10-M

[FR Doc. 00-19435 Filed 8-1-00; 8:45 am]

BILLING CODE 5001-10-C